FEDERAL COMMUNICATIONS COMMISSION

Information Collection Being Reviewed by the Federal Communications Commission

AGENCY: Federal Communication Commission.

ACTION: Notice and request for comments.

SUMMARY: The Federal Communications Commission (FCC), as part of its continuing effort to reduce paperwork burden, invites the general public and other Federal agencies to take this opportunity to comment on the following information collection(s), as required by the Paperwork Reduction Act (PRA) of 1995. Comments are requested concerning: Whether the proposed collection(s) of information is necessary for the proper performance of the functions of the Commission, including whether the information shall have practical utility; the accuracy of the Commission's burden estimate; ways to enhance the quality, utility, and clarity of the information collected; ways to minimize the burden of the collection(s) of information on the respondents, including the use of automated collection techniques or other forms of information technology; and ways to further reduce the information burden for small business concerns with fewer than 25 employees.

The FCC may not conduct or sponsor a collection of information unless it displays a currently valid Office of Management and Budget (OMB) Control Number. No person shall be subject to any penalty for failing to comply with a collection of information subject to the Paperwork Reduction Act (PRA) that does not display a valid OMB Control Number.

DATES: Written Paperwork Reduction Act (PRA) comments should be submitted on or before October 22, 2014. If you anticipate that you will be submitting comments, but find it difficult to do so within the period of time allowed by this notice, you should advise the FCC contact listed below as soon as possible.

ADDRESSES: Direct all PRA comments to Leslie F. Smith, Federal Communications Commission (FCC), via email PRA@fcc.gov or to Leslie.Smith@fcc.gov.

FOR FURTHER INFORMATION CONTACT: For additional information on the information collection, contact Leslie F. Smith at (202) 418-0217.

SUPPLEMENTARY INFORMATION: The Commission is requesting that OMB approve this new information collection under the emergency processing provisions of the PRA, 5 CFR 1320.5, 1320.8(d), and 1320.13 by November 3, 2014.

OMB Control Number: 3060-0806.

Titles: Universal Service—Schools and Libraries Universal Service Program, FCC Forms 470 and 471.

Form Number: FCC Forms 470 and 471.

Type of Review: Revision to a currently approved collection.

Respondents: State, local or tribal government public institutions, and other not-for-profit institutions.

Number of Respondents and Responses: 82,000 respondents; 82,000 responses.

Estimated Time per Response: FCC Form 470 (3 hours for response; 0.5 for recordkeeping); FCC Form 471 (4 hours for response; 0.5 for recordkeeping).

Frequency of Response: On occasion and annual reporting requirements, and recordkeeping requirement.

Obligation To Respond: Required to obtain or retain benefits. Statutory authority for this information collection is contained in 47 U.S.C. 151-154, 201-205, 218-220, 254, 303(r), 403, and 405.

Total Annual Burden: 334,000 hours.

Total Annual Cost: No cost.

Privacy Act Impact Assessment: No impact(s).

Nature and Extent of Confidentiality: There is no assurance of confidentiality provided to respondents concerning this information collection. However, respondents may request materials or information submitted to the Commission or to the Administrator be withheld from public inspection under 47 CFR 0.459 of the FCC's rules.

Needs and Uses: The Commission seeks to revise OMB 3060-0806 to conform this information collection with changes implemented in the E-Rate Modernization Order (WC Docket No. 13-184, FCC 14-99; 79 FR 49160, August 19, 2014) which seeks to promote the Act's universal service goals for schools and libraries. This submission proposes revisions to the FCC Form 470 and instructions and FCC Form 471 and instructions. Collection of the information on FCC Forms 470 and 471 is necessary so that the Commission and USAC have sufficient information to determine if entities are eligible for funding pursuant to the schools and libraries support mechanism, to determine if entities are complying with the Commission's rules, and to prevent waste, fraud, and abuse.

The changes to the collection required by the E-rate Modernization Order simplify the application process by moving FCC Forms 470 and 471 to a new electronic filing platform; enabling streamlined review of funding requests that involve multi-year contracts for eligible services; implementing exemptions in the competitive bidding rules for applicants seeking E-rate support to purchase certain commercially available, business-class Internet access services, and/or applicants that take services on a preferred master contract designated by the Bureau; and, implementing a simplified “district-wide” discount calculation mechanism. In addition, the revised collection is necessary in order to allow the Commission to evaluate the extent to which the E-rate program is meeting the statutory objectives specified in section 254(h) of the 1996 Act, and the Commission's own performance goals established in the E-rate Modernization Order. The revisions will enable the Commission to collect data to facilitate measurement of progress towards the adopted program goals and to establish budgets for schools and libraries, including more detailed data on the nature of the services requested.

The supporting documents for this submission, including revised forms and instructions, may be accessed via this Web site by searching under “OMB 3060-0806”: http://www.reginfo.gov/public/do/PRASearch.

Federal Communications Commission.
Marlene H. Dortch,
Secretary, Office of the Secretary, Office of the Managing Director.

[FR Doc. 2014-22474 Filed 9-19-14; 8:45 am]

BILLING CODE 6712-01-P